NATIONAL FOUNDATION ON THE ARTS AND HUMANITIES

Proposed Collection, Comment Request, Program Guidelines

ACTION: Notice of requests for information collection.

SUMMARY: The Institute of Museum and Library Services as part of its continuing effort to reduce paperwork and respondent burden, conducts a pre-clearance consultation program to provide the general public and Federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed collection of application information for the Museum Grants for African American History and Culture program.

A copy of the proposed information collection request can be obtained by contacting the individual listed below in the addresses section of this notice.

DATES: Written comments must be submitted to the office listed in the addressee section below on or before March 20, 2006.

IMLS is particularly interested in comments that help the agency to:

• Evaluate whether the proposed collection of information is necessary for the proper performance of the functions of the agency, including whether the information will have practical utility;

• Evaluate the accuracy of the agency's estimate of the burden of the proposed collocation of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Rebecca Danvers, Director of Research and Technology, Institute of Museum and Library Services, 1800 M Street, NW., 9th Floor, Washington, DC 20036; telephone 202-653-4680, fax 202-653-4625, e-mail rdanvers@imls.gov.

SUPPLEMENTARY INFORMATION: Background: The Institute of Museum and Library Services is an independent Federal grant-making agency authorized by the Museum and Library Services Act, 20 U.S.C. 9191, et seq. The IMLS provides a variety of grant programs to assist the nation's museums and libraries in improving their operations and enhancing their services to the public. Museums and libraries of all sizes and types may receive support from IMLS programs. The Museum and Library Services Act, 20 U.S.C. 9101, et seq. authorizes the Director of the Institute of Museum and Library Services to make grants to museums and other entities as the Director considers appropriate. In addition, the National Museum of African American History and Culture Act (the “Act”) authorizes the Director of the Institute of Museum and Library Services to establish grant and scholarship programs to improve operations, care of collections, and development of professional management of African American museums throughout the country, and to establish grant programs with the purpose of providing internship and fellowship opportunities at African American Museums. See, generally, 20 U.S.C. 80r-5(b). The Institute's new Program is developed pursuant to the provisions of this Act.

I. The National Museum of African American History and Culture Act authorizes the Institute to develop, among other things, the following:

(A) A grant program with the purpose of improving operations, care of collections, and development of professional management at African American museums;

(B) A grant program with the purpose of providing internship and fellowship opportunities at African American museums. 20 U.S.C. 80r-5(b). Pursuant to this authority, IMLS proposes the program of grants to support and enhance African American museums throughout the country.

II. Current Actions:

To administer this program of grants, IMLS must develop application guidelines.

Agency: Institute of Museum and Library Services.

Title: Application Guidelines.

OMB Number: n/a.

Agency Number: 3137.

Frequency: Annually.

Affected Public: Museums.

Number of Respondents: 50.

Estimated Time Per Respondent: 35 hours.

Total Burden Hours: 1750.

Total Annualized capital/startup costs: $0.

Total Annual costs: $32,900.

FOR FURTHER INFORMATION CONTACT: Rebecca Danvers, Direct of Research and Technology, Institute of Museum and Library Services, 1800 M Street, NW., 9th Floor, Washington, DC 20036; telephone 202-653-4680, fax 202-653-4625, e-mail rdanvers@imls.gov.

Dated: January 12, 2006.
Rebecca Danvers,
Director, Office of Research and Technology.

[FR Doc. 06-462 Filed 1-18-06; 8:45 am]

BILLING CODE 7036-01-M